DEPARTMENT OF HEALTH AND HUMAN SERVICES

Centers for Disease Control and Prevention

[30Day-25-1352]

Agency Forms Undergoing Paperwork Reduction Act Review

In accordance with the Paperwork Reduction Act of 1995, the Centers for Disease Control and Prevention (CDC) has submitted the information collection request titled “Operational Readiness Review 2.0” to the Office of Management and Budget (OMB) for review and approval. CDC previously published a “Proposed Data Collection Submitted for Public Comment and Recommendations” notice on June 17, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Operational Readiness Review 2.0 (OMB Control No. 0920-1352)—Reinstatement—Office of Readiness and Response (ORR), Centers for Disease Control and Prevention (CDC).

Background and Brief Description

To help evaluate the country's public health emergency preparedness and response capacity, the Centers for Disease Control and Prevention's Division of State and Local Readiness (DSLR) administers the Public Health Emergency Preparedness (PHEP) cooperative agreement. The PHEP program is a critical source of funding for 62 state, local, and territorial jurisdictions including four major metropolitan areas (Chicago, Los Angeles County, New York City, and Washington, DC) to build and strengthen their ability to respond to and recover from public health emergencies. The Operational Readiness Review (ORR) is a rigorous, evidence-based assessment used to evaluate PHEP recipients' planning and operational functions. The purpose of the ORR 2.0 is to expand measurement and evaluation to all 15 Public Health Emergency Preparedness and Response Capabilities, which serve as national standards for public health preparedness planning: 1—Community Preparedness; 2—Community Recovery; 3—Emergency Operations Coordination; 4—Emergency Public Information and Warning; 5—Fatality Management; 6—Information Sharing; 7—Mass Care; 8—Medical Countermeasure Dispensing and Administration; 9—Medical Materiel Management and Distribution; 10—Medical Surge; 11—Nonpharmaceutical Intervention; 12—Public Health Laboratory Testing; 13—Public Health Surveillance and Epidemiological Investigation; 14—Responder Safety and Health; 15—Volunteer Management.

These capabilities serve as national standards for public health preparedness planning. The ORR 2.0 has three modules: Descriptive, Planning, and Operational, which will allow DSLR to analyze the data for the development of descriptive statistics and to monitor the progress of each recipient towards performance goals. The intended outcome of the ORR 2.0 is to assist CDC to identify strengths and challenges facing preparedness programs across the nation and to identify opportunities for improvement and further technical support.

Information will be collected from respondents using the new Operational Readiness Review (ORR) 2.0 platform but a backup paper option may be available for jurisdictions that require it. Information collected from respondents is a requirement of the PHEP Cooperative Agreement for participants to receive funding. This Reinstatement will allow PHEP recipients to complete their reporting requirements for the five-year time period of 2019-2024 PHEP Cooperative Agreement. CDC is requesting a three-year approval for this information collection. The total annualized burden hour estimate is 3055 burden hours. There is no cost to respondents other than their time.

Estimated Annualized Burden Hours

Type of respondents | Form name | Number of respondents | Number of responses per respondent | Average burden per response (in hours)
PHEP Recipients | Critical contact sheet (CCS) | 62 | 1 | 80/60
PHEP Recipients | Jurisdictional data sheet (JDS) | 62 | 1 | 255/60
PHEP Recipients | Receive, stage, store (RSS) warehouse (x2, primary and alternate) | 62 | 1 | 4
PHEP Recipients | Partner form/spreadsheet | 62 | 1 | 8
PHEP Recipients | Workforce development and training | 62 | 1 | 1.5
PHEP Recipients | Capability 1—Community Preparedness | 62 | 1 | 1
PHEP Recipients | Capability 2—Community Recovery | 62 | 1 | 1
PHEP Recipients | Capability 3—Emergency Operations Coordination | 62 | 1 | 2
PHEP Recipients | Capability 4—Emergency Public Information and Warning | 62 | 1 | 1.5
PHEP Recipients | Capability 5—Fatality Management | 62 | 1 | 2.5
PHEP Recipients | Capability 6—Information Sharing | 62 | 1 | 1
PHEP Recipients | Capability 7—Mass Care | 62 | 1 | 2
PHEP Recipients | Capability 8—Medical Countermeasure Dispensing and Administration | 62 | 1 | 3
PHEP Recipients | Capability 9—Medical Materiel Management and Distribution | 62 | 1 | 195/60
PHEP Recipients | Capability 10—Medical Surge | 62 | 1 | 2
PHEP Recipients | Capability 11—Nonpharmaceutical Intervention | 62 | 1 | 1.5
PHEP Recipients | Capability 12—Public Health Laboratory Testing | 62 | 1 | 1.5
PHEP Recipients | Capability 13—Public Health Surveillance and Epidemiological Investigation | 62 | 1 | 2.5
PHEP Recipients | Capability 14—Responder Safety and Health | 62 | 1 | 1.5
PHEP Recipients | Capability 15—Volunteer Management | 62 | 1 | 75/60
PHEP Recipients | Multiyear training and exercise plans (MYTEP)—training and exercise planning workshop | 62 | 1 | 1
PHEP Recipients | MYTEP—training and exercise planning (annual) | 62 | 1 | 2
PHEP Recipients | Capability 13—Quality improvement process | 62 | 1 | 20/60
PHEP Recipients | PHEP functional exercise (FE), full-scale exercise (FSE) or incident—annual PHEP exercise | 62 | 1 | 20/60
PHEP Recipients | PHEP FE, FSE, or incident—annual staff notification and assembly performance measure | 62 | 1 | 1.5
Directly Funded Localities | Facility setup drill | 4 | 1 | 45/60
Directly Funded Localities | Site activation drill | 4 | 1 | 1
PHEP Recipients | EOC activation | 62 | 2 | 30/60
PHEP Recipients | PHEP FE, FSE, or incident—Five-year joint exercise | 62 | 1 | 20/60
PHEP Recipients | Five-year Distribution FSE OR Five-year Pan-flu FSE | 62 | 1 | 0.5
| Five-year Dispensing FSE | * 4 | 1 | 0.5
PHEP Recipients | Five-year pan flu functional exercise | 62 | 1 | 45/60
PHEP Recipients | Tabletop exercise (TTX)—Administrative or fiscal preparedness | 62 | 1 | 20/60
PHEP Recipients | TTX—Continuity of Operations | 62 | 1 | 20/60
Directly Funded Localities and Freely Associated States | Dispensing Throughput Drill | 12 | 1 | 20/60

Jeffrey M. Zirger,
Lead, Information Collection Review Office, Office of Public Health Ethics and Regulations, Office of Science, Centers for Disease Control and Prevention.

[FR Doc. 2024-30483 Filed 12-19-24; 8:45 am]

BILLING CODE 4163-18-P